DEPARTMENT OF THE TREASURY

Fiscal Service

Surety Companies Acceptable on Federal Bonds: Name Change and Change in State of Incorporation—The Explorer Insurance Company

AGENCY: Financial Management Service, Fiscal Service, Department of the Treasury.

ACTION: Notice.

SUMMARY: This is Supplement No. 7 to the Treasury Department Circular 570, 2005 Revision, published July 1, 2005, at 70 FR 38502.

FOR FURTHER INFORMATION CONTACT: Surety Bond Branch at (202) 874-6507.

SUPPLEMENTARY INFORMATION: The Explorer Insurance Company, an Arizona corporation, has formally changed its name to Explorer Insurance Company, and has redomesticated from the state of Arizona to the state of California, effective September 27, 2005. The Company was last listed as an acceptable surety on Federal bonds at 70 FR 38516, July 1, 2005.

A Certificate of Authority as an acceptable surety on Federal bonds, dated today, is hereby issued under Sections 9304 to 9308 of Title 31 of the United States Code, to Explorer Insurance Company, San Diego, California. This new Certificate replaces the Certificate of Authority issued to the Company under its former name. The underwriting limitation of $2,552,000 established for the Company as of July 1, 2005, remains unchanged until June 30, 2006. Federal bond-approving officers should annotate their reference copies of the Treasury Circular 570, 2005 Revision, on page 38516 to reflect this change.

The Circular may be viewed and downloaded through the Internet at http://www.fms.treas.gov/c570. A hard copy may be purchased from the Government Printing Office (GPO), Subscription Service, Washington, DC, telephone (202) 512-1800. When ordering the Circular from GPO, use the following stock number: 769-004-05219-0.

Questions concerning this notice may be directed to the U.S. Department of the Treasury, Financial Management Service, Financial Accounting and Services Division, Surety Bond Branch, 2700 East-West Highway, Room 6F01, Hyattsville, MD 20782.

Dated: February 9, 2006.
Vivian L. Cooper,
Director, Financial Accounting and Services Division, Financial Management Services.

[FR Doc. 06-1497 Filed 2-16-06; 8:45 am]

BILLING CODE 4810-35-M